DEPARTMENT OF ENERGY

Federal Energy Regulatory Commission

[Docket No. CP13-483-000; Docket No. CP13-492-000]

Jordan Cove Energy Project LP; Pacific Connector Gas Pipeline LP; Notice of Availability of the Final Environmental Impact Statement for the Proposed Jordan Cove Liquefaction and Pacific Connector Pipeline Projects

The staff of the Federal Energy Regulatory Commission (FERC or Commission) has prepared a final environmental impact statement (EIS) for the Jordan Cove Liquefaction Project proposed by Jordan Cove Energy Project LP (Jordan Cove) and the Pacific Connector Pipeline Project proposed by Pacific Connector Gas Pipeline LP (Pacific Connector) in the above-referenced dockets. Jordan Cove requests authorization under section 3 of the Natural Gas Act (NGA) to produce a maximum of 6.8 million metric tonnes per annum of liquefied natural gas (LNG) at a terminal in Coos County, Oregon for export to overseas markets. Pacific Connector seeks a Certificate of Public Convenience and Necessity under section 7 of the NGA to transport about 1.07 billion cubic feet per day of natural gas in a pipeline from the Malin hub to the Jordan Cove terminal, crossing portions of Klamath, Jackson, Douglas, and Coos Counties, Oregon.

The final EIS assesses the potential environmental effects of the construction and operation of the Jordan Cove Liquefaction and Pacific Connector Pipeline Projects in accordance with the requirements of the National Environmental Policy Act (NEPA). The FERC staff concludes that the proposed projects would have some limited adverse environmental impacts. However, with implementation of Jordan Cove's and Pacific Connector's proposed mitigation measures, and the additional mitigation measures recommended by the FERC staff and federal land managing agencies in the EIS, most of these impacts would be avoided or reduced to less-than-significant levels.

The United States (U.S.) Department of Agriculture Forest Service (Forest Service); U.S. Army Corps of Engineers; U.S. Department of Energy; U.S. Environmental Protection Agency; U.S. Department of Homeland Security Coast Guard; U.S. Department of the Interior Bureau of Land Management (BLM), Bureau of Reclamation (Reclamation), and Fish and Wildlife Service; and the Pipeline and Hazardous Materials Safety Administration within the U.S. Department of Transportation participated as cooperating agencies in preparation of the EIS. Cooperating agencies have jurisdiction by law or special expertise with respect to resources potentially affected by the proposals and participated in the NEPA analysis.

The BLM, with the concurrence of the Forest Service and Reclamation, would adopt and use the EIS to consider issuing a Right-of-Way Grant for the portion of the Pacific Connector pipeline easement on federal lands. Both the BLM and the Forest Service would also use this EIS to evaluate proposed amendments to their District or National Forest land management plans to make provision for the Pacific Connector pipeline. Other cooperating agencies would use this EIS in their regulatory process, and to satisfy compliance with the NEPA and other federal environmental laws. Although the cooperating agencies provided input to the conclusions and recommendations presented in the EIS, the agencies would present their own conclusions and recommendations in their respective Records of Decision for the projects.

Jordan Cove's proposed facilities would include an access channel from the existing Coos Bay navigation channel; a terminal marine slip including a single LNG vessel berth and tug boat berth; a barge berth; a loading platform and transfer pipeline; two LNG storage tanks; four liquefaction trains and associated refrigerant storage bullets; fire water ponds; ground flares; 420-megawatt South Dune Power Plant; support buildings; utility and access corridor between the terminal and the power plant; Southwest Oregon Resource Security Center; and a natural gas treatment plant.

Pacific Connector's proposed facilities would include a 232-mile-long, 36-inch-diameter underground welded steel pipeline between Malin and Coos Bay; the 41,000 horsepower Klamath Compressor Station; the Klamath-Eagle Receipt Meter Station and Klamath-Beaver Receipt Meter Station within the compressor station tract; the Clarks Branch Delivery Meter Station at the interconnection with Northwest Pipeline's Grants Pass Lateral; the Jordan Cove Delivery Meter Station at the interconnection with the Jordan Cove LNG terminal; 5 pig ¹ launchers and receivers; 17 mainline block valves; and 11 communication towers co-located with other facilities.

¹ A “pig” is a tool for cleaning and inspecting the inside of a pipeline.

The FERC staff mailed copies of the EIS to federal, state, and local government agencies; elected officials; regional environmental groups and non-governmental organizations; Indian tribes; affected landowners; newspapers and libraries in the project area; other interested individuals; and parties to the proceedings. Paper copy versions of the EIS were mailed to those specifically requesting them; all others received a compact disc version. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the projects are available from the Commission's Office of External Affairs, at (866) 208-FERC, or on the FERC Web site (www.ferc.gov) using the eLibrary link. Click on the eLibrary link, click on “General Search,” and enter the docket number excluding the last three digits in the Docket Number field (i.e., CP13-483). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: September 30, 2015.
Kimberly D. Bose,
Secretary.

[FR Doc. 2015-25386 Filed 10-5-15; 8:45 am]

BILLING CODE 6717-01-P